NATIONAL FOUNDATION ON THE ARTS AND THE HUMANITIES

Meetings of Humanities Panel

AGENCY: National Endowment for the Humanities, National Foundation On The Arts and The Humanities.

ACTION: Notice of meetings.

SUMMARY: The National Endowment for the Humanities will hold fourteen meetings of the Humanities Panel, a federal advisory committee, during November, 2016. The purpose of the meetings is for panel review, discussion, evaluation, and recommendation of applications for financial assistance under the National Foundation on the Arts and Humanities Act of 1965.

DATES: See SUPPLEMENTARY INFORMATION section for meeting dates. The meetings will open at 8:30 a.m. and will adjourn by 5:00 p.m. on the dates specified below.

ADDRESSES: The meetings will be held at the National Endowment for the Humanities at Constitution Center at 400 7th Street SW., Washington, DC 20506, unless otherwise indicated.

FOR FURTHER INFORMATION CONTACT: Elizabeth Voyatzis, Committee Management Officer, 400 7th Street SW., Room, 4060, Washington, DC 20506; (202) 606-8322; evoyatzis@neh.gov.

SUPPLEMENTARY INFORMATION: Pursuant to section 10(a)(2) of the Federal Advisory Committee Act (5 U.S.C. App.), notice is hereby given of the following meetings:

1. Date: November 1, 2016.

This meeting will discuss applications on the subjects of U.S. History and Culture: State, Regional, and Local History, for the Humanities Collections and Reference Resources grant program, submitted to the Division of Preservation and Access.

2. Date: November 1, 2016.

This meeting will discuss applications on the subject of History, for the Public Humanities Projects—Community Conversations grant program (planning grants), submitted to the Division of Public Programs.

3. Date: November 2, 2016.

This meeting will discuss applications on the subjects of Film, Radio, and Web for Media Projects: Development Grants, submitted to the Division of Public Programs.

4. Date: November 2, 2016.

This meeting will discuss applications on the subject of U.S. History and Culture: African American History, for the Humanities Collections and Reference Resources grant program, submitted to the Division of Preservation and Access.

5. Date: November 3, 2016.

This meeting will discuss applications on the subject of Literature, for the Humanities Collections and Reference Resources grant program, submitted to the Division of Preservation and Access.

6. Date: November 3, 2016.

This meeting will discuss applications on the subjects of Art and History, for the Public Humanities Projects—Community Conversations grant program (implementation grants), submitted to the Division of Public Programs.

7. Date: November 9, 2016.

This meeting will discuss applications on the subjects of Arts and Culture, for the Public Humanities Projects—Exhibitions grant program (planning grants), submitted to the Division of Public Programs.

8. Date: November 9, 2016.

This meeting will discuss applications on the subject of World Studies I: Ancient to Early-Modern Era, for the Humanities Collections and Reference Resources grant program, submitted to the Division of Preservation and Access.

9. Date: November 10, 2016.

This meeting will discuss applications on the subjects of American Studies II: Folkways and Popular Culture, for the Humanities Collections and Reference Resources grant program, submitted to the Division of Preservation and Access.

10. Date: November 14, 2016.

Address: Ministerio de Ciencia, Tecnología e Innovación Productiva (MINCYT), Polo Científico y Tecnológico, Godoy Cruz 2320, Ciudad Autónoma de Buenos Aires, C1425FQD, Argentina.

This meeting will discuss applications for the 2016 Digging into Data Challenge, submitted to the Office of Digital Humanities.

11. Date: November 15, 2016.

Address: Ministerio de Ciencia, Tecnología e Innovación Productiva (MINCYT), Polo Científico y Tecnológico, Godoy Cruz 2320, Ciudad Autónoma de Buenos Aires, C1425FQD, Argentina.

This meeting will discuss applications for the 2016 Digging into Data Challenge, submitted to the Office of Digital Humanities.

12. Date: November 15, 2016.

Address: Ministerio de Ciencia, Tecnología e Innovación Productiva (MINCYT), Polo Científico y Tecnológico, Godoy Cruz 2320, Ciudad Autónoma de Buenos Aires, C1425FQD, Argentina.

This meeting will discuss applications for the 2016 Digging into Data Challenge, submitted to the Office of Digital Humanities.

13. Date: November 10, 2016.

Address: The Library of Congress, Jefferson Building, 10 First Street, SE., Washington, DC 20540.

This meeting will discuss applications for Kluge Fellowships, submitted to the Division of Research Programs.

14. Date: November 30, 2016.

This meeting will discuss applications on the subjects of Archaeology and Ethnography, for the Humanities Collections and Reference Resources grant program, submitted to the Division of Preservation and Access.

Because these meetings will include review of personal and/or proprietary financial and commercial information given in confidence to the agency by grant applicants, the meetings will be closed to the public pursuant to sections 552b(c)(4) and 552b(c)(6) of Title 5, U.S.C., as amended. The Committee Management Officer, Elizabeth Voyatzis, has made this determination pursuant to the authority granted her by the Chairman's Delegation of Authority to Close Advisory Committee Meetings dated April 15, 2016.

Dated: October 6, 2016.
Elizabeth Voyatzis,
Committee Management Officer.

[FR Doc. 2016-24714 Filed 10-12-16; 8:45 am]

BILLING CODE 7536-01-P